DEPARTMENT OF HEALTH AND HUMAN SERVICES

National Institutes of Health

Center for Scientific Review; Amended Notice of Meeting

Notice is hereby given of a change in the meeting of the Center for Scientific Review Special Emphasis Panel RFA Panel: Tobacco Regulatory Science B, November 17, 2022, 9:30 a.m.-8:00 p.m., National Institutes of Health, 6701 Rockledge Drive, Bethesda, MD 20892, which was published in the Federal Register on October 20, 2022, 87 FR 63790, Doc 2022-22763.

This notice is being amended to change the meeting end time from 8:00 p.m. to 8:30 p.m. The meeting is closed to the public.

Dated: October 20, 2022.
Melanie J. Pantoja,
Program Analyst, Office of Federal Advisory Committee Policy.

[FR Doc. 2022-23228 Filed 10-25-22; 8:45 am]

BILLING CODE 4140-01-P